DEPARTMENT OF ENERGY

Federal Energy Regulatory Commission

[Docket Nos. LLC EG07-80-000; EG07-81-000; EG07-82-000; EG07-83-000; EG07-84-000; EG07-85-000; EG07-86-000; EG07-87-000; EG07-88-000; EG07-89-000; FC07-54-000; FC07-55-000; FC07-56-000; FC07-57-000; FC07-58-000; FC07-59-000]

NRG Cedar Bayou Development Company; EnergyCo Cedar Bayou 4, LLC; Hackberry Wind, LLC; Smoky Hills Wind Farm, LLC; Cloud County Wind Farm, LLC; Pioneer Prairie Wind Farm I, LLC; Sagebrush Power Partners, LLC; Tatanka Wind Power, LLC; Snyder Wind Farm, LLC; FPL Energy Point Beach, LLC; Enbridge Gas New Brunswick Inc.; Enbridge Wind Power Inc.; Gazifere Inc.; Inuvik Gas Ltd.; NRGreen Power Limited Partnership; Wirebury Connections Inc.; Notice of Effectiveness of Exempt Wholesale Generator or Foreigen Utility Company Status

December 26, 2007.

Take notice that during the month of November 2007, the status of the above-captioned entities as Exempt Wholesale Generators or Foreign Utility Companies became effective by operation of the Commission's regulations. 18 CFR 366.7(a).

Kimberly D. Bose,
Secretary.

[FR Doc. E8-56 Filed 1-7-08; 8:45 am]

BILLING CODE 6717-01-P